DEPARTMENT OF THE INTERIOR

Bureau of Reclamation

[RR83550000, 17XR0680A1, RX.31580001.0090104]

Agency Information Collection; Renewal of a Currently Approved Information Collection (OMB Control Number 1006-0005)

AGENCY: Bureau of Reclamation, Interior.

ACTION: Notice and request for comments.

SUMMARY: We, the Bureau of Reclamation, intend to submit a request for renewal of an existing approved information collection to the Office of Management and Budget (OMB) titled, Individual Landholder's and Farm Operator's Certification and Reporting Forms for Acreage Limitation, 43 CFR part 426 and 43 CFR part 428, OMB Control Number 1006-0005.

DATES: Submit written comments on this information collection request on or before February 21, 2017.

ADDRESSES: Send written comments or requests for copies of the proposed forms to Stephanie McPhee, Bureau of Reclamation, Office of Policy and Administration, 84-55000, P.O. Box 25007, Denver, CO 80225-0007; or via email to smcphee@usbr.gov.

FOR FURTHER INFORMATION CONTACT: Stephanie McPhee at (303) 445-2897.

SUPPLEMENTARY INFORMATION:

I. Abstract

This information collection is required under the Reclamation Reform Act of 1982 (RRA), Acreage Limitation Rules and Regulations, 43 CFR part 426, and Information Requirements for Certain Farm Operations In Excess of 960 Acres and the Eligibility of Certain Formerly Excess Land, 43 CFR part 428. This information collection requires certain landholders (direct or indirect landowners or lessees) and farm operators to complete forms demonstrating their compliance with the acreage limitation provisions of Federal reclamation law. The forms in this information collection are submitted to districts that use the information to establish each landholder's status with respect to landownership limitations, full-cost pricing thresholds, lease requirements, and other provisions of Federal reclamation law. In addition, forms are submitted by certain farm operators to provide information concerning the services they provide and the nature of their farm operating arrangements. All landholders whose entire westwide landholdings total 40 acres or less are exempt from the requirement to submit RRA forms. Landholders who are “qualified recipients” have RRA forms submittal thresholds of 80 acres or 240 acres depending on the district's RRA forms submittal threshold category where the land is held. Only farm operators who provide multiple services to more than 960 acres held in trusts or by legal entities are required to submit forms.

II. Changes to the RRA Forms and Their Instructions

No changes have been made to the currently approved RRA forms and the corresponding instructions to generate the proposed RRA forms that will be effective in the 2018 water year.

III. Data

OMB Control Number: 1006-0005.

Title: Individual Landholder's and Farm Operator's Certification and Reporting Forms for Acreage Limitation, 43 CFR part 426 and 43 CFR part 428.

Form Number: Form 7-2180, Form 7-2180EZ, Form 7-2181, Form 7-2184, Form 7-2190, Form 7-2190EZ, Form 7-2191, Form 7-2194, Form 7-21TRUST, Form 7-21PE, Form 7-21PE-IND, Form 7-21FARMOP, Form 7-21VERIFY, Form 7-21FC, Form 7-21XS, Form 7-21XSINAQ, Form 7-21CONT-I, Form 7-21CONT-L, Form 7-21CONT-O, and Form 7-21INFO.

Frequency: Annually.

Respondents: Landholders and farm operators of certain lands in our projects, whose landholdings exceed specified RRA forms submittal thresholds.

Estimated Annual Total Number of Respondents: 13,960.

Estimated Number of Responses per Respondent: 1.02.

Estimated Total Number of Annual Responses: 14,239.

Estimated Total Annual Burden on Respondents: 10,432 hours.

Estimated Completion Time per Respondent: See table below.

Form No. | Burden estimate per form (in minutes) | Number of respondents | Annual number of responses | Annual burden on respondents (in hours)
Form 7-2180 | 60 | 3,595 | 3,667 | 3,667
Form 7-2180EZ | 45 | 373 | 380 | 285
Form 7-2181 | 78 | 1,050 | 1,071 | 1,392
Form 7-2184 | 45 | 32 | 33 | 24
Form 7-2190 | 60 | 1,601 | 1,633 | 1,633
Form 7-2190EZ | 45 | 96 | 98 | 73
Form 7-2191 | 78 | 777 | 793 | 1,030
Form 7-2194 | 45 | 4 | 4 | 3
Form 7-21PE | 75 | 135 | 138 | 172
Form 7-21PE-IND | 12 | 4 | 4 | 1
Form 7-21TRUST | 60 | 694 | 708 | 708
Form 7-21VERIFY | 12 | 5,069 | 5,170 | 1,034
Form 7-21FC | 30 | 214 | 218 | 109
Form 7-21XS | 30 | 144 | 147 | 73
Form 7-21FARMOP | 78 | 172 | 175 | 228
Totals |  | 13,960 | 14,239 | 10,432

IV. Request for Comments

We invite your comments on:

(a) whether the collection of information is necessary for the proper performance of our functions, including whether the information will have practical use;

(b) the accuracy of our estimated time and cost burden of the collection of information, including the validity of the methodology and assumptions used;

(c) ways to enhance the quality, usefulness, and clarity of the information to be collected; and

(d) ways to minimize the burden of the collection of information on respondents, including increased use of automated collection techniques or other forms of information technology.

We will summarize all comments received regarding this notice. We will publish that summary in the Federal Register when the information collection request is submitted to OMB for review and approval.

V. Public Disclosure

Before including your address, phone number, email address, or other personal identifying information in your comment, you should be aware that your entire comment—including your personal identifying information—may be made publicly available at any time. While you can ask us in your comment to withhold your personal identifying information from public review, we cannot guarantee that we will be able to do so.

Dated: November 14, 2016.
Roseann Gonzales,
Director, Policy and Administration.

[FR Doc. 2016-30720 Filed 12-20-16; 8:45 am]

BILLING CODE 4332-90-P